DEPARTMENT OF TRANSPORTATION

Office of the Secretary

Notice of Applications for Certificates of Public Convenience and Necessity and Foreign Air Carrier Permits Filed Under Subpart B (Formerly Subpart Q) During the Week Ending January 20, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-23664.

Date Filed: January 17, 2006.

Due Date for Answers, Conforming Applications, or Motion to Modify Scope: February 7, 2006.

Description: Application of TEM Enterprises d/b/a Xtra Airways (“Xtra”) requesting a certificate of public convenience and necessity authorizing Xtra to engage in foreign scheduled air transportation of persons, property and mail from any point or points in the United States to any point or points in the Republic of Costa Rica and the Dominican Republic, and between Atlanta, GA; Cincinnati, OH; Memphis, TN and Orlando, FL, on the one hand, and Cancun, Mexico on the other.

Docket Number: OST-2005-23694.

Date Filed: January 20, 2006.

Due Date for Answers, Conforming Applications, or Motion to Modify Scope: February 10, 2006.

Description: Application of Business Jet Services, Ltd. (“BJS”) requesting a certificate of public convenience and necessity authorizing BJS to engage in interstate charter air transportation of persons, property and mail.

Docket Number: OST-2005-23695.

Date Filed: January 20, 2006.

Due Date for Answers, Conforming Applications, or Motion to Modify Scope: February 10, 2006.

Description: Application of Business Jet Services, Ltd. (“BJS”) requesting a certificate of public convenience and necessity authorizing BJS to engage in foreign charter air transportation of persons, property and mail.

Renee V. Wright,
Program Manager, Docket Operations, Federal Register Liaison.

[FR Doc. E6-1794 Filed 2-8-06; 8:45 am]

BILLING CODE 4910-62-P